DEPARTMENT OF AGRICULTURE

Office of Procurement and Property Management

Public Availability of FY 2015 Service Contract Inventories

AGENCY: Office of Procurement and Property Management, Departmental Management, Department of Agriculture.

ACTION: Notice of public availability of FY 2015 Services Contracts Inventories.

SUMMARY: In accordance with Section 743 of Division C of the Consolidated Appropriations Act of 2010 (Pub. L. 111-117), Department of Agriculture is publishing this notice to advise the public of the availability of the FY 2015 Services Contracts Inventory. This inventory provides information on FY 2015 service contract actions over $25,000. The information is organized by function to show how contracted resources are distributed throughout the agency. The inventory has been developed in accordance with guidance issued on November 5, 2010, by the Office of Management and Budget's Office of Federal Procurement Policy (OFPP). OFPP's guidance is available at http://www.whitehouse.gov/sites/default/files/omb/procurement/memo/service-contract-inventories-guidance-11052010.pdf.

The Department of Agriculture has posted its inventory and a summary of the inventory on the Office of Procurement and Property Management homepage at the following link: http://www.dm.usda.gov/procurement/.

FOR FURTHER INFORMATION CONTACT: Crandall Watson, Office of Procurement and Property Management, at (202) 720-7529, or by mail at OPPM, MAIL STOP 9304, U.S. Department of Agriculture, 1400 Independence Avenue SW., Washington, DC 20250-9303. Please cite “2015 Service Contract Inventory” in all correspondence.

Lisa M. Wilusz,
Director, Office of Procurement and Property Management.

[FR Doc. 2016-17499 Filed 7-22-16; 8:45 am]

BILLING CODE 3410-TX-P